DEPARTMENT OF TRANSPORTATION

Federal Aviation Administration

[Summary Notice No. PE-2004-85]

Petitions for Exemption; Summary of Petitions Received; Correction

AGENCY: Federal Aviation Administration (FAA), DOT.

ACTION: Notice of petition for exemption received; correction.

SUMMARY: This document makes a correction to the docket number and the contact information in the summary of petitions received published in the Federal Register on November 30, 2004. That notice provided details of a petition for exemption from the Air Transport Association (ATA).

EFFECTIVE DATE: This correction is effective on December 7, 2004.

FOR FURTHER INFORMATION CONTACT: John Linsenmeyer (202) 267-5174.

Correction

In the notice of petition for exemption received, FR Doc. 04-26340, published on November 30, 2004, (69 FR 69665), make the following corrections:

1. On page 69665, in column 1, under the heading ADDRESSES, on the third line from the bottom, correct the docket number to read “FAA-2004-17481”.

2. On page 69665, in column 2, under the heading FOR FURTHER INFORMATION CONTACT:, replace “Annette K. Kovite (425-227-1262), Transport Airplane Directorate (ANM-113), Federal Aviation Administration, 1601 Lind Ave., SW., Renton, WA 98055-4056;” with “Susan Lender (202-267-8029)”.

Issued in Washington, DC on December 2, 2004.
Anthony F. Fazio,
Director, Office of Rulemaking.

[FR Doc. 04-26862 Filed 12-2-04; 4:27 pm]

BILLING CODE 4910-13-P